DEPARTMENT OF HEALTH AND HUMAN SERVICES

Centers for Disease Control and Prevention

Solicitation of Nominations for Appointment to the Communications and Public Engagement Workgroup of the Advisory Committee to the Director, CDC; Notice of Extension

AGENCY: Centers for Disease Control and Prevention, Department of Health and Human Services (HHS).

ACTION: Notice.

SUMMARY: In accordance with the Federal Advisory Committee Act, the Centers for Disease Control and Prevention (CDC), within the Department of Health and Human Services (HHS), is seeking nominations for membership on the Communications and Public Engagement Workgroup (CPEW) of the Advisory Committee to the Director, CDC. The CPEW consists of approximately 15 members who are experts in fields associated with communications, including public relations, health communication, risk communication, communication research, and marketing; community and partner engagement; public health science and practice, including implementation; and behavioral science/behavior change campaigns.

DATES: The deadline for submission of nominations for membership on the CPEW published March 4, 2024, at 89 FR 15578, is extended. Nominations for membership on the CPEW must be received no later than April 26, 2024. Late nominations will not be considered for membership.

ADDRESSES: All nominations (cover letters, reference letters, and curriculum vitae/resumes) should be emailed to ACDirector@cdc.gov with the subject line: “Nomination for CDC ACD Communications and Public Engagement Workgroup.”

FOR FURTHER INFORMATION CONTACT: Kate Galatas, M.P.H., Senior Communications Specialist, Office of Communications, Centers for Disease Control and Prevention, 1600 Clifton Road NE, Mailstop H21-11, Atlanta, GA 30329-4027. Telephone: (404) 639-2064; Email: ACDirector@cdc.gov.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

SUPPLEMENTARY INFORMATION: The deadline for nominations for appointment to the Communications and Public Engagement Workgroup (CPEW) of the Advisory Committee to the Director, Centers for Disease Control and Prevention has been extended from March 28, 2024 to April 26, 2024. The original solicitation of nominations notice was published in the Federal Register on March 4, 2024, Volume 89, Number 43, pages 15578-15579.

Kalwant Smagh,
Director, Office of Strategic Business Initiatives, Office of the Chief Operating Officer, Centers for Disease Control and Prevention.

[FR Doc. 2024-06893 Filed 4-1-24; 8:45 am]

BILLING CODE 4163-18-P